FEDERAL COMMUNICATIONS COMMISSION

[Report No. 2598]

Petitions for Reconsideration of Action In Rulemaking Proceedings

March 7, 2003.

Petitions for Reconsideration have been filed in the Commission's rulemaking proceedings listed in this public notice and published pursuant to 47 CFR 1.429(e). The full text of this document is available for viewing and copying Room CY-A257, 445 12th Street, SW., Washington DC or may be purchased from the Commission's copy contractor, Qualex International (202) 863-2893. Oppositions to these petitions must be filed by April 1, 2003. See § 1.4(b)(1) of the Commission's rules (47 CFR 1.4(b)(1)). Replies to an opposition must be filed within 10 days after the time for filing oppositions has expired.

Subject: In the Matter of the Development of Operational, Technical and Spectrum Requirement for Meeting Federal, State and Local Public Safety Agency Communication Requirements Through the Year 2010 (WT Docket No. 96-86)

Number of Petitions Filed: 1

Subject: In the Matter of the Year 2000 Biennial Regulatory Review-Amendment of Part 22 of the Commission's Rules to Modify or Eliminate Outdated Rules Affecting the Cellular Radiotelephone Service and other Commercial Mobile Radio Services (WT Docket No. 01-108)

Number of Petitions Filed: 3

Marlene H. Dortch,
Secretary.

[FR Doc. 03-6275 Filed 3-14-03; 8:45 am]

BILLING CODE 6712-01-M